DEPARTMENT OF AGRICULTURE

Agricultural Marketing Service

[Doc. No. AMS-FV-07-0079; FV-07-326]

Notice of Request for an Extension and Revision to a Currently Approved Information Collection

AGENCY: Agricultural Marketing Service, USDA.

ACTION: Notice and request for comments.

SUMMARY: In accordance with the Paperwork Reduction Act of 1995 (44 U.S.C. Chapter 35), this notice announces the Agricultural Marketing Service (AMS) intention to request approval from the Office of Management and Budget, for an extension and revision to a currently approved information collection for Regulations Governing Inspection and Certification of Processed Fruits and Vegetables and Related Products.

DATES: Comments may be submitted on or before July 31, 2007.

ADDITIONAL INFORMATION OR COMMENTS: Interested persons are invited to submit written comments concerning this notice to Terry B. Bane, Processed Products Branch, Fruit and Vegetable Programs, Agricultural Marketing Service, U.S. Department of Agriculture, STOP 0247, 1400 Independence Avenue, SW., Washington, DC 20250-0247; fax (202) 690-1527; or e-mail terry.bane@usda.gov. Comments should be submitted in triplicate. Comments may also be submitted electronically through www.regulations.gov. All comments should reference the docket number and page number of this issue of the Federal Register. All comments received will be made available for public inspection at the Office of the Branch Chief, Processed Products Branch, Fruit and Vegetable Programs, Agricultural Marketing Service, U.S. Department of Agriculture, STOP 0247, Washington, DC 20250-0247, telephone (202) 720-4693, during regular business hours. A copy of this notice may also be found at: http://www.ams.usda.gov/fv/ppbdocklist.htm.

SUPPLEMENTARY INFORMATION: The “Domestic Origin Verification System” (DOVS) audit program is a user-fee service, available to suppliers, processors, and any financially interested party. It is designed to provide validation of the applicant's domestic origin verification system prior to bidding on contracts to supply food products to the Department of Agriculture's (USDA's) Domestic Feeding programs, and/or may be conducted after a contract is award.

DOVS was established to evaluate prospective applicants' systems for assurance that only domestic products are delivered to under USDA contracts, and to establish procedures for applicant system evaluations as well as acceptance and rejection criteria.

Title: “Regulations Governing Inspection and Certification of Processed Fruits and Vegetables and Related Products—7 CFR 52.”

OMB Number: 0581-0234.

Expiration Date of Approval: October 31, 2007.

Type of Request: Extension and Revision of a Currently Approved Information Collection.

Abstract: The Agricultural Marketing Act (AMA) of 1946 (7 U.S.C. 1621-et seq.) The AMA directs and authorizes the Department to develop standards of quality, grades, grading programs, and other services to facilitate trading of agricultural products and assure consumers of quality products, which are graded and identified under USDA programs. Section 203(h) of the AMA specifically directs and authorizes the Secretary of Agriculture to inspect, certify, and identify the grade, class, quality, quantity, and condition of agricultural products under such rules and regulations as the Secretary may prescribe, including assessment and collection of fees for the cost of the service. The regulations for such services for processed fruits and vegetables and related products may be found at 7 CFR part 52. AMS also provides other types of voluntary services under the same regulations, e.g., contract and specification acceptance services, facility assessment services, and certifications of quantity and quality. Grading services are available on a resident basis or a lot-fee basis. Respondents may request resident service on a continuous basis or on an as-needed basis. The user (user-fee) pays for the service. The AMA and these regulations do not mandate the use of these services; they are provided only to those entities that request or apply for a specific service. In order for the Agency to satisfy those requests for service, the Agency must request certain information from those who apply for service. The information collected is used only by Agency personnel and is used to administer services requested by the respondents. The affected public may include any partnership, association, business trust, corporation, organized group, and State, County, or Municipal government, and any authorized agent that has a financial interest in the commodity involved and requests service.

Estimate of Burden: Public reporting burden for this collection of information is estimated to average 1.0 hour per response.

Respondents: Applicants who are applying for grading and inspection services.

Estimated Number of Respondents: 100.

Estimated Number of Responses: 100.

Estimated Number of Responses per Respondent: 1.

Estimated Total Annual Burden on Respondents: 1.0.

Comments are invited on: (1) Whether the proposed collection of information is necessary for the proper performance of the functions of the Agency, including whether the information will have practical utility; (2) the accuracy of the Agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this notice will be summarized and included in the request for OMB approval. All comments will become a matter of public record.

Dated: May 25, 2007.
Lloyd C. Day,
Administrator, Agricultural Marketing Service.

[FR Doc. E7-10526 Filed 5-31-07; 8:45 am]

BILLING CODE 3410-02-P